DEPARTMENT OF HOMELAND SECURITY

Transportation Security Administration

49 CFR Part 1572

[Docket No. TSA-2006-24191; TSA Amendment Nos. 1515-(New), 1540-8, 1570-2, and 1572-7]

RIN 1652-AA41

Transportation Worker Identification Credential Implementation in the Maritime Sector; Hazardous Materials Endorsement for a Commercial Driver’s License; Correction

Correction

In rule document E7-5487 beginning on page 14049 in the issue of Monday, March 26, 2007, make the following correction:

§ 1572.103 [Corrected]

On page 14050, in the third column, in the first paragraph, in the third line, “(b)(2)(xii)” should read “(b)(2)(xiii)”.

[FR Doc. Z7-5487 Filed 3-29-07; 8:45 am]

BILLING CODE 1505-01-D